SECURITIES AND EXCHANGE COMMISSION

[Release No. 34-62941; File No. SR-NYSEAmex-2010-94]

Self-Regulatory Organizations; NYSE Amex LLC; Notice of Filing and Immediate Effectiveness of Proposed Rule Change to Add Certain Rules to the List of Exchange Rule Violations and Fines Applicable Thereto

September 20, 2010.

Pursuant to Section 19(b)(1) of the Securities Exchange Act of 1934 (the “Act”) ¹ and Rule 19b-4 thereunder,² notice is hereby given that on September 9, 2010, NYSE Amex LLC (the “Exchange” or “NYSE Amex”) filed with the Securities and Exchange Commission (the “Commission”) the proposed rule change as described in Items I and II, below, which Items have been prepared by the Exchange. The Commission is publishing this notice to solicit comments on the proposed rule change from interested persons.

¹ 15 U.S.C. 78s(b)(1).

² 17 CFR 240.19b-4.

I. Self-Regulatory Organization's Statement of the Terms of Substance of the Proposed Rule Change

The Exchange proposes to amend NYSE Amex Disciplinary Rule 476A to add certain rules to Part 1A: List of Exchange Rule Violations and Fines Applicable Thereto (“Minor Rule Violation Plan”). The text of the proposed rule change is available on the Exchange's Web site at http://www.nyse.com, at the Exchange's principal office, at the Commission's Public Reference Room, and on the Commission's Web site at http://www.sec.gov.

II. Self-Regulatory Organization's Statement of the Purpose of, and Statutory Basis for, the Proposed Rule Change

In its filing with the Commission, the self-regulatory organization included statements concerning the purpose of and basis for the proposed rule change and discussed any comments it received on the proposed rule change. The text of those statements may be examined at the places specified in Item IV below. The Exchange has prepared summaries, set forth in sections A, B, and C below, of the most significant parts of such statements.

A. Self-Regulatory Organization's Statement of the Purpose of, and the Statutory Basis for, the Proposed Rule Change

1. Purpose

The Exchange proposes to amend NYSE Amex Disciplinary Rule 476A to add certain rules to Part 1A of its Minor Rule Violation Plan to reflect approved changes to Exchange rules.³ Specifically, in connection with the Exchange's process to harmonize certain Exchange rules with rules of the Financial Industry Regulatory Authority, Inc. (“FINRA”), the Exchange has deleted certain Exchange rules and replaced them with new rules that have different rule numbers. The Exchange proposes this rule filing to add the new rule references to the Minor Rule Violation Plan for those rules that have been added as part of the FINRA harmonization process. The Exchange will not delete the old rule references in the Minor Rule Violation Plan so that violations of prior Exchange rules that occurred before the amendments described below took effect still fall under the jurisdiction of the Minor Rule Violation Plan.

³ The Exchange's corporate affiliate, New York Stock Exchange LLC (“NYSE”), submitted a companion rule filing proposing corresponding amendments to NYSE Rule 476A. See SR-NYSE-2010-66.

In connection with the harmonization process, the Exchange adopted the following new NYSE Amex Equities Rules, which correspond with the same-numbered consolidated FINRA Rules, and which replaced prior Exchange rules:

• Rule 2150—NYSE Amex Equities (Improper Use of Customers' Securities or Funds; Prohibition Against Guarantees and Sharing in Accounts) replaced old Rules 352(a)-(d)—NYSE Amex Equities;

• Rule 3130—NYSE Amex Equities (Annual Certification of Compliance and Supervisory Processes) replaced, in relevant part, old Rules 342.30(d)- and (e)-NYSE Amex Equities and Rule Interpretation 311(b)(5)—NYSE Amex Equities;

• Rule 3310—NYSE Amex Equities (Anti-Money Laundering Compliance Program) replaced old Rule 445—NYSE Amex Equities;

• Rule 4110—NYSE Amex Equities (Capital Compliance) replaced, in relevant part, old Rules 312(h)- and 313-NYSE Amex Equities;

• Rule 4521—NYSE Amex Equities (Notifications, Questionnaires and Reports) replaced, in relevant part, old Rule 421—NYSE Amex Equities;

• Rule 4560—NYSE Amex Equities (Short-Interest Reporting) replaced old Rules 421(1)- and 421.10-NYSE Amex Equities; and

• Rule 5190—NYSE Amex Equities (Notification Requirements for Offering Participants) replaced old Rule 392—NYSE Amex Equities.⁴

⁴ See Securities Exchange Act Release Nos. 59975 (May 26, 2009), 74 FR 26449 (June 2, 2009) (SR-NYSEAltr-2009-26) (adopting, inter alia, NYSE Amex Equities Rules 3130, 4560, 5190); 61157 (December 11, 2009), 74 FR 67939 (December 21, 2009) (SR-NYSEAmex-2009-88) (adopting NYSE Amex Equities Rule 2150); 61272 (December 31, 2009), 75 FR 1099 (January 8, 2010) (SR-NYSEAmex-2009-99) (adopting NYSE Amex Equities Rule 3310); 61556 (February 22, 2010), 75 FR 9468 (March 2, 2010) (SR-NYSEAmex-2010-13) (adopting, inter alia, NYSE Amex Equities Rules 4110, 4521). See also NYSE and NYSE Amex Information Memoranda 09-24 (June 2, 2009); 10-09 (February 18, 2010); 10-12 (March 11, 2010).

These old Rules, or certain provisions thereof, are subject to the Exchange's Minor Rule Violation Plan under NYSE Amex Disciplinary Rule 476A. At the time the new Rules were adopted to replace the old Exchange Rules, however, they were not added to the Exchange's Minor Rule Violation Plan. The Exchange therefore proposes to update the Exchange's Minor Rule Violation Plan under NYSE Amex Disciplinary Rule 476A by adding the new rule references identified above.

2. Statutory Basis

The Exchange believes that the proposed rule change is consistent with, and furthers the objectives of, Section 6(b)(5) of the Act,⁵ in that it is designed to prevent fraudulent and manipulative acts and practices, to promote just and equitable principles of trade, to remove impediments to and perfect the mechanism of a free and open market and a national market system and, in general, to protect investors and the public interest. The proposed rule change also furthers the objectives of Section 6(b)(6) of the Act,⁶ in that it provides for appropriate discipline for violations of Exchange rules and regulations.

⁵ 15 U.S.C. 78f(b)(5).

⁶ 15 U.S.C. 78f(b)(6).

The Exchange believes that the proposed rule change will provide the Exchange with greater regulatory flexibility to enforce the prescriptions of certain rules in a more informal manner while also preserving the Exchange's discretion to seek formal discipline for more serious transgressions as warranted.

B. Self-Regulatory Organization's Statement on Burden on Competition

The Exchange does not believe that the proposed rule change will impose any burden on competition that is not necessary or appropriate in furtherance of the purposes of the Act.

C. Self-Regulatory Organization's Statement on Comments on the Proposed Rule Change Received From Members, Participants, or Others

No written comments were solicited or received with respect to the proposed rule change.

III. Date of Effectiveness of the Proposed Rule Change and Timing for Commission Action

The Exchange has filed the proposed rule change pursuant to Section 19(b)(3)(A) of the Act ⁷ and Rule19b-4(f)(3) thereunder.⁸ Because the proposed rule change is concerned solely with the administration of the Exchange, the proposed rule change has become immediately effective upon filing pursuant to Section 19(b)(3)(A) of the Act and Rule 19b-4(f)(3) thereunder.

⁷ 15 U.S.C. 78s(b)(3)(A).

⁸ 17 CFR 240.19b-4(f)(3).

At any time within 60 days of the filing of the proposed rule change, the Commission summarily may temporarily suspend such rule change if it appears to the Commission that such action is necessary or appropriate in the public interest, for the protection of investors, or otherwise in furtherance of the purposes of the Act.

IV. Solicitation of Comments

Interested persons are invited to submit written data, views, and arguments concerning the foregoing, including whether the proposed rule change is consistent with the Act. Comments may be submitted by any of the following methods:

Electronic Comments

• Use the Commission's Internet comment form (http://www.sec.gov/rules/sro.shtml); or

• Send an e-mail to rule-comments@sec.gov. Please include File Number SR-NYSEAmex-2010-94 on the subject line.

Paper Comments

• Send paper comments in triplicate to Elizabeth M. Murphy, Secretary, Securities and Exchange Commission, 100 F Street, NE., Washington, DC 20549-1090.

All submissions should refer to File Number SR-NYSEAmex-2010-94. This file number should be included on the subject line if e-mail is used. To help the Commission process and review your comments more efficiently, please use only one method. The Commission will post all comments on the Commission's Internet Web site (http://www.sec.gov/rules/sro.shtml). Copies of the submission, all subsequent amendments, all written statements with respect to the proposed rule change that are filed with the Commission, and all written communications relating to the proposed rule change between the Commission and any person, other than those that may be withheld from the public in accordance with the provisions of 5 U.S.C. 552, will be available for Web site viewing and printing in the Commission's Public Reference Room, 100 F Street, NE., Washington, DC 20549, on official business days between the hours of 10 a.m. and 3 p.m. Copies of the filing also will be available for inspection and copying at the principal office of the Exchange. All comments received will be posted without change; the Commission does not edit personal identifying information from submissions. You should submit only information that you wish to make available publicly. All submissions should refer to File Number SR-NYSEAmex-2010-94 and should be submitted on or before October 15, 2010.

For the Commission, by the Division of Trading and Markets, pursuant to delegated authority.⁹
⁹ 17 CFR 200.30-3(a)(12); 200.30-3(a)(44).
Florence E. Harmon,
Deputy Secretary.

[FR Doc. 2010-23911 Filed 9-23-10; 8:45 am]

BILLING CODE 8010-01-P